DEPARTMENT OF ENERGY

Environmental Management Site-Specific Advisory Board, Northern New Mexico

AGENCY: Department of Energy.

ACTION: Notice of open meeting.

SUMMARY: This notice announces a meeting of the Environmental Management Site-Specific Advisory Board (EM SSAB), Northern New Mexico. The Federal Advisory Committee Act (Pub. L. 92-463, 86 Stat. 770) requires that public notice of this meeting be announced in the Federal Register.

DATES: Wednesday, November 17, 2010, 1 p.m.-7 p.m.

ADDRESSES: The Lodge at Santa Fe, 750 North St. Francis Drive, Santa Fe, New Mexico.

FOR FURTHER INFORMATION CONTACT: Menice Santistevan, Northern New Mexico Citizens' Advisory Board (NNMCAB), 1660 Old Pecos Trail, Suite B, Santa Fe, NM 87505. Phone (505) 995-0393; Fax (505) 989-1752 or E-mail: msantistevan@doeal.gov.

SUPPLEMENTARY INFORMATION:

Purpose of the Board: The purpose of the Board is to make recommendations to DOE-EM and site management in the areas of environmental restoration, waste management, and related activities.

Tentative Agenda

1 p.m. Call to Order by Co-Deputy Designated Federal Officers (DDFO), Ed Worth and Lee Bishop

Establishment of a Quorum: Roll Call and Excused Absences, Lorelei Novak.

Welcome and Introductions, Ralph Phelps.

Approval of Agenda and September 29, 2010 Meeting Minutes.

1:30 p.m. Public Comment Period.

1:45 p.m. Old Business.

• Written Reports

• Other Items

2 p.m. New Business.

• Report on Decision Makers Forum, Ralph Phelps and Nicole Castellano

• Report from Ad Hoc Committee for Annual Evaluation, Pam Henline

• Other items

2:45 p.m. Items from DOE, Ed Worth and Lee Bishop.

3 p.m. Presentation on Los Alamos National Laboratory's (LANL) Environmental Surveillance Report for 2009.

3:15 p.m. Break.

3:30 p.m. Continue Presentation on LANL's Environmental Surveillance Report.

5 p.m. Dinner Break.

6 p.m. Public Comment Period.

6:15 p.m. Consideration and Action on Draft Recommendation(s), Ralph Phelps.

6:45 p.m. Open Forum for Board Members.

7 p.m. Adjourn, Ed Worth and Lee Bishop.

Public Participation: The EM SSAB, Northern New Mexico, welcomes the attendance of the public at its advisory committee meetings and will make every effort to accommodate persons with physical disabilities or special needs. If you require special accommodations due to a disability, please contact Menice Santistevan at least seven days in advance of the meeting at the telephone number listed above. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Menice Santistevan at the address or phone number listed above. Minutes and other Board documents are on the Internet at: http://www.nnmcab.org/.

Issued at Washington, DC, on October 14, 2010.
Rachel Samuel,
Deputy Committee Management Officer.

[FR Doc. 2010-26473 Filed 10-19-10; 8:45 am]

BILLING CODE 6450-01-P